INTERNATIONAL TRADE COMMISSION

[Investigation No. 731-TA-1084-1087 (Review)]

Purified Carboxymethylcellulose From Finland, Mexico, Netherlands, and Sweden

AGENCY: United States International Trade Commission.

ACTION: Revised schedule for the subject reviews.

DATES: Effective Date: January 7, 2011.

FOR FURTHER INFORMATION CONTACT: Cynthia Trainor (202-205-3354), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On September 15, 2010, the Commission established a schedule for the conduct of this review (75 FR 57815, September 22, 2010). Due to a scheduling conflict with the hearing in another proceeding, the Commission is issuing a revised schedule. Specifically, the public hearing in connection with the reviews, scheduled to begin at 9:30 a.m. on February 16, 2011, is rescheduled to begin at 9:30 a.m. on February 15, 2011 at the U.S. International Trade Commission Building.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to sections 207.24 and 207.66 of the Commission's rules.

By order of the Commission.
Issued: January 12, 2011.
Marilyn R. Abbott,
Secretary to the Commission.

[FR Doc. 2011-948 Filed 1-18-11; 8:45 am]

BILLING CODE 7020-02-P